SOCIAL SECURITY ADMINISTRATION

[Docket No. SSA-2013-0042]

Agency Proposed Business Process Vision Under the Rehabilitation Act of 1973

AGENCY: Social Security Administration (SSA).

ACTION: Notice of availability of proposed business process vision following self-evaluation under Section 504 of the Rehabilitation Act of 1973 and request for comments.

SUMMARY: On November 5, 2010, we published a Federal Register notice requesting comments regarding our self-evaluation under Section 504 of the Rehabilitation Act of 1973. We requested the public's ideas and suggestions on how we could best perform the self-evaluation. We received a limited number of comments from advocacy groups and individuals.

On August 2, 2011, we published a second Federal Register notice announcing the two public forums we held in Falls Church, Virginia, where the public could provide us with comments in person or via telephone. The notice also requested written comments from those who preferred to communicate with us in writing.

On October 24, 2011, we published a third Federal Register notice to extend the deadline to provide written comments.

This Federal Register notice announces the modifications we propose to make to our business process based on our self-evaluation. A description of our business process vision under Section 504 of the Rehabilitation Act of 1973 is now available at www.socialsecurity.gov/accessibility/section504. Our business process vision outlines the actions we are currently taking to implement many of the self-evaluation key findings and recommendations. Specifically, we are developing additional policies in this area to provide clear guidance to all SSA components. We developed and are continuing to develop electronic systems to capture information about the accommodations people tell us they need, and we trained and continue to train our employees about Section 504 and its requirements. Finally, we established a new organization, the Center for Section 504 Compliance, to oversee all of these efforts and manage the business process.

DATES: To ensure that your comments are considered, we must receive them no later than December 23, 2013.

ADDRESSES: You may submit written comments by any one of three methods—Internet, fax or mail. Do not submit the same comments multiple times, or by more than one method. Regardless of which method you choose, please state that your comments refer to Docket No. SSA-2013-0042, so that we may associate your comments with the correct activity.

Caution: You should be careful to include in your comments only information you wish to make publicly available. We strongly urge you not to include in your comments any personal information, such as Social Security numbers or medical information.

• Internet: We strongly recommend this method for submitting your comments. Visit the Federal eRulemaking portal at http://www.regulations.gov. Use the Search function of the Web page to find docket number SSA-2013-0042, and then submit your comment. Once you submit your comment, the system will issue you a tracking number to confirm your submission. You will not be able to view your comment immediately as we must manually post each comment. It may take up to a week for your comment to be viewable.

• Fax: Fax comments to (410) 966-2830.

• Mail: Mail your comments to the Office of Regulations and Reports Clearance, Social Security Administration, 3100 West High Rise Building, 6401 Security Boulevard, Baltimore, Maryland 21235-6401.

Comments are available for public viewing on the Federal eRulemaking portal at http://www.regulations.gov, or in person, during regular business hours, by arranging with the contact person identified below.

FOR FURTHER INFORMATION CONTACT: Benita A. Dallas, Office of Civil Rights and Equal Opportunity, Center for Section 504 Compliance, Social Security Administration, 6401 Security Boulevard, Baltimore, Maryland 21235-6401, 410-966-4590. For information on eligibility or filing for benefits, call our national toll-free number, 1-800-772-1213 or TTY 1-800-325-0778, or visit our Internet site, Social Security Online, at http://www.socialsecurity.gov.

SUPPLEMENTARY INFORMATION:

Background

Section 504 of the Rehabilitation Act of 1973 prohibits discrimination against individuals with disabilities and requires Federal agencies and organizations that receive Federal financial assistance to provide meaningful access to their programs and activities to individuals with disabilities. In Fiscal Year 2012, SSA paid over 61 million Social Security beneficiaries and Supplemental Insurance Income recipients a combined total of about $810 billion; completed more than 56 million transactions on our National 800 Number; assisted 45 million visitors; received nearly 5 million retirement, survivor, and Medicare applications; received about 3.2 million initial disability claims, and conducted 672,352 hearings.¹

¹ SSA's FY 2012 Performance and Accountability Report.

Sometimes disabled individuals will ask us to provide them with auxiliary aids to communicate or to modify the way we make our services available so that they can have meaningful access to SSA's programs and activities. We refer to these aids and modifications as “reasonable accommodations.” Currently, we do not have a streamlined process for providing reasonable accommodations to disabled members of the public, and we have a limited ability to capture, store, and retrieve information on the accommodation a disabled individual needs for meaningful access to our services. We are developing an agency-wide process that will allow us to ensure that our programs, services, and activities are accessible to all of the individuals we serve. Our new business process vision includes issuing policy guidance, providing training to our employees, establishing processes for providing accommodations that are effective, and developing electronic systems that will make it possible for us to capture, review, track, and update requests.

Our business process vision outlines the procedures we will use to receive and process accommodation requests from individuals with disabilities. We plan to identify “standard accommodations” that we are able to provide immediately when an individual with a disability requests them, and we plan to develop a process by which we will review and decide requests for “non-standard accommodations.”

A “standard accommodation” is something we will be able to approve at the local level whenever an individual with a disability requests it. A standard accommodation can be an auxiliary aid, or it can be a service we provide to make our programs accessible to a customer who has a certain type of disability, such as a modification of our ordinary interview process. Standard accommodations will not require special handling or approval by a manager. When a disabled individual tells us that he or she needs a standard accommodation, we will document the request and we will retain it in an electronic system to ensure that, if the customer contacts or visits us again, we will know that he or she previously requested this accommodation and may need it again. An example of a “standard accommodation” is the UbiDuo communication device, which enables SSA Field Office employees to interact directly and immediately with customers who are deaf or hard of hearing.

When a disabled individual needs an accommodation to have effective communication with us, he or she may request his or her preferred auxiliary aid if it is not one of our “standard accommodations;” this is an example of what we mean when we refer to a “non-standard accommodation.” We will give primary consideration to the individual's request, unless another effective means of communicating exists. However, we are not required to provide auxiliary aids that would require us to make a fundamental alteration in the nature of an agency program or activity or that would result in an undue financial or administrative burden.

When a disabled individual is unable to access or use an agency program or activity, the individual may request an accommodation he or she believes will provide meaningful access. For the most part, requests for program modifications are “non-standard accommodations.”

Non-standard accommodation requests are necessarily individualized and will require consideration by a centralized component within SSA to ensure consistent responses. We have, therefore, created a Center for Section 504 Compliance (Center), which will review and process requests for non-standard accommodations. Previously, there was not a single component responsible for overseeing the strategic and tactical aspects of implementing SSA's Section 504 compliance. We believe our new process will meet the changing needs of the American public we serve by providing a central point of contact for reasonable accommodation requests.

Request for Comments

As we implement our business process, we are asking for your input on how we can continue to provide meaningful access to our programs and services. After reviewing the business process we ask that, in preparing comments, you address questions such as:

1. Are there additional standard reasonable accommodations we should consider offering individuals who:

• Are blind or visually impaired;

• are deaf or hard of hearing;

• have cognitive or learning issues;

• have psychological or emotional issues;

• have mobility or physical concerns; or

• have other types of disabilities?

2. How can we best provide an opportunity for persons with disabilities, their family members, and those who work with, or advocate for, persons with disabilities, to tell us that they need an accommodation to have meaningful access? How should we interact with individuals who tell us they need an accommodation? What kind of information should we request? How should we notify individuals of our approval or denial of their request(s)?

3. What are some of the methods we should consider for getting feedback about how the process is working?

Please see the information under ADDRESSES earlier in this document for methods to give us your comments. We will not respond to your comments, but we will consider them as we review our policies and instructions to determine if we should revise or update them.

Dated: November 15, 2013.
Carolyn W. Colvin,
Acting Commissioner of Social Security.

[FR Doc. 2013-28036 Filed 11-21-13; 8:45 am]

BILLING CODE 4191-02-P